DEPARTMENT OF ENERGY

Federal Energy Regulatory Commission

Combined Notice of Filings #1

Take notice that the Commission received the following electric corporate filings:

Docket Numbers: EC14-72-000.

Applicants: Aequitas Energy, Inc., Lumens Energy Supply CT LLC.

Description: Joint Application under Section 203 of the Federal Power Act, et. al. of Aequitas Energy, Inc., et. al.

Filed Date: 4/3/14.

Accession Number: 20140403-5192.

Comments Due: 5 p.m. ET 4/24/14.

Take notice that the Commission received the following exempt wholesale generator filings:

Docket Numbers: EG14-36-000.

Applicants: CSOLAR IV WEST, LLC.

Description: Notice of Self-Certification of Exempt Wholesale Generator Status in New Doc. No. EG14-36.

Filed Date: 4/3/14.

Accession Number: 20140403-5178.

Comments Due: 5 p.m. ET 4/24/14.

Take notice that the Commission received the following electric rate filings:

Docket Numbers: ER10-2249-003.

Applicants: Portland General Electric Company.

Description: Correction to January 30, 2014 Notice of Non-Material Change in Status of Portland General Electric Company.

Filed Date: 2/14/14.

Accession Number: 20140214-5063.

Comments Due: 5 p.m. ET 4/25/14.

Docket Numbers: ER14-1654-000.

Applicants: eBay Inc.

Description: Cancellation of eBay Market-Based Rate Tariff to be effective 4/4/2014.

Filed Date: 4/3/14.

Accession Number: 20140403-5153.

Comments Due: 5 p.m. ET 4/24/14.

Docket Numbers: ER14-1656-000.

Applicants: CSOLAR IV West, LLC.

Description: Market-Based Rate Application to be effective 4/4/2014.

Filed Date: 4/3/14.

Accession Number: 20140403-5175.

Comments Due: 5 p.m. ET 4/24/14.

Docket Numbers: ER14-1657-000.

Applicants: Southern California Edison Company.

Description: Notice of Cancellation of SGIA with Clearvista Energy, LLC to be effective 6/4/2014.

Filed Date: 4/4/14.

Accession Number: 20140404-5004.

Comments Due: 5 p.m. ET 4/25/14.

Docket Numbers: ER14-1658-000.

Applicants: Electric Energy, Inc.

Description: Revised and Restated Cost-Based Power Contract to be effective 6/1/2014.

Filed Date: 4/4/14.

Accession Number: 20140404-5079.

Comments Due: 5 p.m. ET 4/25/14.

Docket Numbers: ER14-1659-000.

Applicants: ISO New England Inc., New England Power Pool Participants Committee.

Description: DR Baseline Net Supply Changes to be effective 6/1/2014.

Filed Date: 4/4/14.

Accession Number: 20140404-5091.

Comments Due: 5 p.m. ET 4/25/14.

Docket Numbers: ER14-1660-000.

Applicants: PJM Interconnection, L.L.C.

Description: Revisions to the PJM Tariff Att DD5.11 re CONE Periodic Review Deadline to be effective 6/4/2014.

Filed Date: 4/4/14.

Accession Number: 20140404-5121.

Comments Due: 5 p.m. ET 4/25/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 4, 2014.
Nathaniel J. Davis, Sr.,
Deputy Secretary.

[FR Doc. 2014-08177 Filed 4-10-14; 8:45 am]

BILLING CODE 6717-01-P